DEPARTMENT OF HEALTH AND HUMAN SERVICES

Centers for Disease Control and Prevention

[60-Day 11-0278]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at 404-639-5960 or send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Hospital Ambulatory Medical Care Survey (NHAMCS) (OMB No. 0920-0278) — Revision — National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. The National Hospital Ambulatory Medical Care Survey (NHAMCS) has been conducted annually since 1992. NCHS is seeking OMB approval to extend this survey for an additional three years, automate data collection, add an additional sample of 60 hospitals and collect additional information through supplements.

The purpose of NHAMCS is to meet the needs and demands for statistical information about the provision of ambulatory medical care services in the United States. Ambulatory services are rendered in a wide variety of settings, including physicians' offices and hospital outpatient and emergency departments. The target universe of the NHAMCS is in-person visits made to outpatient departments (OPDs), emergency departments (EDs), and ambulatory surgery locations (ASLs) of non-Federal, short-stay hospitals (hospitals with an average length of stay of less than 30 days) or those whose specialty is general (medical or surgical) or children's, as well as visits to freestanding ambulatory surgery centers (FS-ASCs).

NHAMCS was initiated to complement the National Ambulatory Medical Care Survey (NAMCS, OMB No. 0920-0234), which provides similar data concerning patient visits to physicians' offices. NAMCS and NHAMCS are the principal sources of data on ambulatory care provided in the United States.

NHAMCS provides a range of baseline data on the characteristics of the users and providers of hospital ambulatory medical care. Data collected include patients' demographic characteristics, reason(s) for visit, providers' diagnoses, diagnostic services, medications, and disposition. These data, together with trend data, may be used to monitor the effects of change in the health care system, for the planning of health services, improving medical education, determining health care work force needs, and assessing the health status of the population.

NHAMCS data collection will be automated. Induction interviews and patient record information will be entered on secure laptops. This effort will greatly reduce paperwork and will increase efficiency in data processing. Data collection activities, including questions asked, will be similar to current procedures.

In 2012, NHAMCS will sample an additional 60 hospitals in order to obtain state-based estimates on emergency department characteristics in five states. This additional sample is part of an effort sponsored by the Department of Health and Human Services' Office of the Assistant Secretary for Preparedness and Response (ASPR), to better monitor the role of EDs and the care that they provide as health care reform in the United States proceeds. State-based estimates will provide both baseline and ongoing information about the status of EDs and ED care as policy changes are implemented.

NHAMCS will also conduct an asthma management supplement, a lookback module, and a pretest of colorectal cancer screening questions. The asthma supplement will collect information on the clinical decisions providers make when confronted with a patient suffering from asthma. The lookback module will collect additional information from the 12 month period prior to a sampled OPD visit, which will identify risk factors and clinical management of patients with conditions that put them at high risk for heart disease and stroke. Finally, a small pretest in hospital-based ASLs and freestanding ASCs will assess the feasibility of obtaining information on colorectal cancer screening during ambulatory surgery visits where a colonoscopy is performed.

Users of NHAMCS data include, but are not limited to, congressional offices, Federal agencies, state and local governments, schools of public health, colleges and universities, private industry, nonprofit foundations, professional associations, clinicians, researchers, administrators, and health planners. There are no costs to the respondents other than their time.

Estimated Annualized Burden Table
Type of respondent | Form | Number of respondents | Number of responses per respondent | Avg. burden per response (in hrs) | Total Burden Hours
Hospital Chief Executive Officer | Hospital Induction Interview | 542 | 1 | 1.5 | 813
Ambulatory Surgery Center Executive Officer | Freestanding Ambulatory Surgery Center Induction Interview | 200 | 1 | 1.5 | 300
Ancillary Service Executive | Clinic Induction | 2,000 | 1 | 15/60 | 500
Physician/Registered Nurse/Medical Record Clerk | ED Patient Record Form | 113 | 100 | 7/60 | 1318
Physician/Registered Nurse/Medical Record Clerk | OPD Patient Record Form | 78 | 200 | 9/60 | 2340
Physician/Registered Nurse/Medical Record Clerk | ASC Patient Record Form | 108 | 100 | 7/60 | 1260
Medical Record Clerk | Medical Records Clerk | 893 | 133 | 1/60 | 1979
Physician/Physician Assistant/Nurse Practitioner | Asthma Supplement | 250 | 1 | 15/60 | 63
Total |  |  |  |  | 8,573

Daniel Holcomb,
Reports Clearance Officer, Office of the Chief Science Office. Centers for Disease Control and Prevention.

[FR Doc. 2011-16351 Filed 6-28-11; 8:45 am]

BILLING CODE 4163-18-P